DEPARTMENT OF ENERGY

National Coal Council; Meeting

AGENCY: Office of Fossil Energy, Department of Energy.

ACTION: Notice of open meeting.

SUMMARY: This notice announces a meeting of the National Coal Council (NCC). The Federal Advisory Committee Act requires that public notice of these meetings be announced in the Federal Register.

DATES: Friday, October 23, 2020; 1:00 to 3:15 p.m. (EST)

ADDRESSES: This will be a virtual meeting conducted through WebEx. If you wish to join the meeting you must register by close of business (5:00 p.m. EST) on Tuesday, October 20, 2020, by using the form available at the following URL: http://www.nationalcoalcouncil.org/page-NCC-Events.html. The email address you provide in the on-line registration form will be used to forward instructions on how to join the meeting using WebEx. WebEx requires a computer, web browser and an installed application (free). Instructions for joining the webcast will be sent to you two days in advance of the meeting.

FOR FURTHER INFORMATION CONTACT: Thomas Sarkus, U.S. Department of Energy, National Energy Technology Laboratory, Mail Stop 920-125, P.O. Box 10940, Pittsburgh, PA 15236-0940; Telephone: (412) 386-5981; email: thomas.sarkus@netl.doe.gov.

SUPPLEMENTARY INFORMATION: Purpose of the Council: The National Coal Council provides advice and recommendations to the Secretary of Energy on general policy matters relating to coal and the coal industry.

Tentative Agenda

Friday, October 23, 2020, 1:00-3:15 p.m. (EST)

1. Call to order and opening remarks by Steven Winberg, NCC Designated Federal Officer & Assistant Secretary for Fossil Energy, U.S. Department of Energy;

2. Keynote remarks by U.S. Department of Energy representative—To Be Determined;

3. Keynote remarks by Jeffrey C. Grossman, Department Head, Department of Materials Science & Engineering, Massachusetts Institute of Technology on developments in coal-to-products technology development;

4. Presentation by Shannan Banaga, Esq., Managing Director Strategic Communications and Ken Ditzel, Managing Director Economic Consulting with FTI Consulting on the future outlook for the energy sector;

5. Public Comment Period;

6. Other Business—Election of NCC Chair and Vice Chair for 2020-2021; and

7. Adjourn.

All attendees are requested to register in advance for the meeting at: http://www.nationalcoalcouncil.org/page-NCC-Events.html.

Public Participation: The meeting is open to the public. If you would like to file a written statement to be read during the virtual webcast, you may do so at least three calendar days prior to the event. Please email your written statement to Thomas Sarkus at thomas.sarkus@netl.doe.gov by 5:00 p.m. (EST) on Tuesday, October 20, 2020. If you would like to make an oral statement during the call regarding the reports being reviewed, you must both register to attend the webcast and also contact Thomas Sarkus, (412) 386-5981 or thomas.sarkus@netl.doe.gov to state your desire to speak. You must make your request for an oral statement at least 3 calendar days before the meeting. Reasonable provision will be made to include oral statements at the conclusion of the meeting. However, those who fail to register in advance may not be accommodated. Oral statements are limited to 2-minutes per organization and per person.

Minutes: A link to the transcript of the meeting will be posted on the Council's website at: https://www.energy.gov/fe/national-coal-council, or by contacting Thomas Sarkus above.

Signed in Washington, DC, on September 14, 2020.
LaTanya Butler,
Deputy Committee Management Officer.

[FR Doc. 2020-20635 Filed 9-17-20; 8:45 am]

BILLING CODE 6450-01-P